DEPARTMENT OF LABOR

Mine Safety and Health Administration

30 CFR Part 72

RIN 1219-AB18

Determination of Concentration of Respirable Coal Mine Dust

AGENCY: Mine Safety and Health Administration (MSHA), Labor.

ACTION: Proposed rule; reopening of record; correction.

SUMMARY: This document corrects errors which appeared in a notice of reopening addressing the joint Department of Labor and Department of Health and Human Services proposed rule, “Determination of Concentration of Respirable Coal Mine Dust.”

FOR FURTHER INFORMATION CONTACT: Marvin W. Nichols, Jr., Director, Office of Standards, Regulations, and Variances, MSHA, 202-693-9440.

SUPPLEMENTARY INFORMATION: On March 6, 2003 (68 FR 10940) MSHA published a notice of reopening addressing the July 7, 2000 proposed rule, (65 FR 42068), Determination of Concentration of Respirable Coal Mine Dust.

The proposed rule announced that the Secretary of Labor and the Secretary of Health and Human Services would find that the average concentration of respirable dust to which each miner in the active workings of a coal mine is exposed can be accurately measured over a single shift. The Secretaries proposed to rescind a previous 1972 finding by the Secretary of the Interior and the Secretary of Health, Education and Welfare, on the accuracy of single shift sampling.

This document makes the following correction to the notice of reopening only as published on March 6, 2003.

Correction

On page 10947, column one, line 50, change the equation

to read

Dated: March 21, 2003.
Dave D. Lauriski,
Assistant Secretary of Labor for Mine Safety and Health.

[FR Doc. 03-7754 Filed 3-31-03; 8:45 am]

BILLING CODE 4510-43-P